DEPARTMENT OF THE INTERIOR

Bureau of Land Management

[CA-650-1430-ER; CACA-40856]

Public Meeting

AGENCY: Bureau of Land Management.

ACTION: Public Meeting.

SUMMARY: Notice is hereby given that the Bureau of Land Management will convene a Public Meeting to discuss a proposed ranch in the community of Trona, California on March 8, 2000 from 7:00 P.M. to 9:00 P.M. in the Trona High School Library. The purpose of this public meeting is to identify and address public issues and concerns, and to assess the nature and extent of potential environmental impacts which should be addressed in the Environmental Assessment.

EFFECTIVE DATE: Immediately upon publication.

FOR FURTHER INFORMATION CONTACT: Peter Graves, Ridgecrest Field Office, BLM, 300 South Richmond Road, Ridgecrest, CA 93555, (760) 384-5429.

SUPPLEMENTAL INFORMATION: On June 29, 1999, Rocking “R” Ranch submitted to the Bureau of Land Management an “Application For Land For Recreation or Public Purpose” to operate a public ranch for the rescue and rehabilitation of abused and neglected horses. The proposed ranch would be located on public land near the community of Trona, California. The land is more fully described as follows:

Mount Diablo Meridian, California

T. 25 S., R. 43 E.,

Sec. 18, SW¼.

Containing 40.00 acres more or less, in the County of San Bernardino, State of California.

The Bureau of Land Management, Ridgecrest Field Office, will convene a public meeting beginning at 7:00 P.M. local time on Wednesday, March 8, 2000, in the Trona High School Library, 83600 Trona Road, Trona, California concerning the proposed Rocking “R” Ranch. The purpose of this public meeting is to identify and address public issues and concerns, and to assess the nature and extent of potential environmental impacts which should be addressed in the Environmental Assessment. Written comments are requested and should be submitted no later than March 3, 2000, to Peter G. Graves, Resource Management Specialist, Bureau of Land Management, 300 South Richmond Road, Ridgecrest, CA 93555. For more information, contact Peter G. Graves at (760) 384-5429.

Dated: February 4, 2000.
Hector A. Villalobos,
Field Office Manager.

[FR Doc. 00-3429 Filed 2-14-00; 8:45 am]

BILLING CODE 4310-40-M